SECURITIES AND EXCHANGE COMMISSION

[File No. 500-1]

Pacific Clean Water Technologies, Inc.; Order of Suspension of Trading

October 11, 2013.

It appears to the Securities and Exchange Commission that there is a lack of current and accurate information concerning the securities of Pacific Clean Water Technologies, Inc. (“PCWT”) because of questions regarding the adequacy and accuracy of publicly disseminated information concerning, among other things, the company's business operations. PCWT is a Delaware corporation based in Irvine, California. It is quoted on OTC Link under the symbol PCWT.

The Commission is of the opinion that the public interest and the protection of investors require a suspension of trading in the securities of the above-listed company.

Therefore, it is ordered, pursuant to Section 12(k) of the Securities Exchange Act of 1934, that trading in the securities of the above-listed company is suspended for the period from 5:30 p.m. EDT on October 11, 2013 through 11:59 p.m. EDT, on October 24, 2013.

By the Commission.
Elizabeth M. Murphy,
Secretary.

[FR Doc. 2013-24610 Filed 10-21-13; 8:45 am]

BILLING CODE 8011-01-P